DEPARTMENT OF EDUCATION

Office of Postsecondary Education; Asian American and Native American Pacific Islander-Serving Institutions (AANAPISI), Native American-Serving Nontribal Institutions (NASNTI), Hispanic Serving Institutions-STEM and Articulation (HSI-STEM), and Predominantly Black Institutions (PBI) Programs

AGENCY: Office of Postsecondary Education, Department of Education.

ACTION: Notice reopening the application for eligibility for AANAPISI, NASNTI, HSI-STEM, and PBI fiscal year (FY) 2010 competitions.

SUMMARY: On December 7, 2009, we published in the Federal Register (74 FR 64059-64062) a notice inviting applications for eligibility for the programs authorized under Titles III and Title V of the Higher Education Act of 1965, as amended (FY 2010 Eligibility Notice). The FY 2010 Eligibility Notice established a January 6, 2010 deadline date for applicants to apply for designation as an eligible institution under the Title III and Title V programs.

SUPPLEMENTARY INFORMATION: In this notice, the Department announces the reopening of the period for submitting an application for a designation of eligibility. This reopening of the application period applies only to those institutions that intend to apply for new awards in competitions to be announced this fall under the AANAPISI, NASNTI, HSI-STEM, and PBI programs. This limited reopening is intended to ensure that all potential applicants to the AANAPISI, NASNTI, HSI-STEM, and PBI programs have the opportunity to submit applications for eligibility prior to the announcement of these competitions. (While HSI-STEM was not included in the FY 2010 Eligibility Notice, it has been added to this notice due to funds made available by the Student Aid and Fiscal Responsibility Act.) If you have already submitted an application for eligibility based on the FY 2010 Eligibility Notice and were designated as eligible, you do not need to resubmit your application. Deadline for Transmittal of Applications: September 13, 2010.

Note: Applications for designation of eligibility must be submitted electronically using the following Web site: https://opeweb.ed.gov/title3and5.

To enter the Web site, you must use your institution's unique eight-digit identifier, i.e., your Office of Postsecondary Education Identification Number (OPE ID Number). Your business office or student financial aid office should have the OPE ID Number. If not, contact the Department using the e-mail addresses of the contact persons listed in this notice under FOR FURTHER INFORMATION CONTACT.

You will find detailed instructions for completing the application form electronically under the “Eligibility” link at the following Web site: http://www.ed.gov/programs/iduestitle3a/index.html.

FOR FURTHER INFORMATION CONTACT: Kelley Harris or Carnisia Proctor, Institutional Development and Undergraduate Education Service, U.S. Department of Education, 1990 K Street, NW., room 6033, Request for Eligibility Designation, Washington, DC 20006-8513. You may contact these individuals at the following e-mail addresses or phone numbers: Kelley.Harris@ed.gov, 202-219-7083. Carnisia.Proctor@ed.gov, 202-502-7606.

If you use a telecommunications device for the deaf (TDD), call the Federal Relay Service (FRS), toll-free, at 1-800-877-8339.

Accessible Format: Individuals with disabilities can obtain this notice in an accessible format (e.g., braille, large print, audiotape, or computer diskette) by contacting the persons listed in this section.

Electronic Access to This Document: You can view this document, as well as other Department of Education documents published in the Federal Register, in text or Adobe Portable Document Format (PDF), on the Internet at the following site: http://www.ed.gov/news/fedregister.

To use PDF, you must have Adobe Acrobat Reader, which is available free at this site.

Note: The official version of this document is the document published in the Federal Register. Free Internet access to the official edition of the Federal Register and the Code of Federal Regulations is available on GPO Access at: http://www.gpoaccess.gov/nara/index.html.

Program Authority: 20 U.S.C. 1057-1059d, 1101-1103g, 20 U.S.C. 1059e (PBI), 20 U.S.C. 1069f (NASNTI), 20 U.S.C. 1059g (AANAPISI) and 20 U.S.C. 1067q (HSI-STEM) including amendments to these sections made by Public Law 110-315 and Public Law 111-152.

CFDA Numbers: 84.031C, 84.382A, 84.382B, and 84.382C

Dated: August 10, 2010.
Eduardo M. Ochoa,
Assistant Secretary for Postsecondary Education.

[FR Doc. 2010-20064 Filed 8-12-10; 8:45 am]

BILLING CODE 4000-01-P